DEPARTMENT OF ENERGY

Federal Energy Regulatory Commission

Combined Notice of Filings #1

Take notice that the Commission received the following electric corporate filings:

Docket Numbers: EC23-14-000.

Applicants: San Diego Gas & Electric Company, AES Energy Storage, LLC.

Description: Joint Application for Authorization Under Section 203 of the Federal Power Act of San Diego Gas & Electric Company, et al.

Filed Date: 10/26/22.

Accession Number: 20221026-5236.

Comment Date: 5 p.m. ET 11/16/22

Take notice that the Commission received the following Complaints and Compliance filings in EL Dockets:

Docket Numbers: EL23-7-000.

Applicants: Generate Capital, PBC.

Description: Petition for Declaratory Order of [Generate Capital, PBC].

Filed Date: 10/25/22.

Accession Number: 20221025-5205.

Comment Date: 5 p.m. ET 11/25/22.

Take notice that the Commission received the following electric rate filings:

Docket Numbers: ER10-1291-024; ER10-2346-012; ER10-2353-012; ER10-2357-011; ER10-2361-012; ER10-2368-010; ER10-2369-010; ER10-2381-012; ER10-2382-011; ER10-2383-012; ER10-2384-010; ER10-2385-012; ER10-2812-017; ER10-2843-016; ER11-2206-013; ER11-2207-013; ER11-2209-013; ER11-2210-013; ER11-2211-013; ER11-2855-027; ER11-2856-027; ER11-2857-027; ER11-3727-019; ER11-4351-014; ER12-21-025; ER12-1238-010; ER12-1239-010; ER12-1711-019; ER13-1150-011; ER13-1151-011; ER13-1991-023; ER13-1992-023; ER14-2820-010; ER14-2821-010; ER16-853-005; ER16-855-005; ER16-856-005; ER16-857-005; ER16-858-005; ER16-860-005; ER16-861-005; ER18-814-004; ER19-672-004; ER19-843-004; ER19-844-003; ER19-1061-004; ER19-1062-003; ER19-1063-004; ER19-1200-006; ER20-486-004; ER20-2014-001; ER21-1923-002; ER21-1947-002; ER21-2128-001; ER21-2129-001; ER22-529-002.

Applicants: 299F2M WHAM8 SOLAR, LLC, 276FED WHAM8 SOLAR, LLC, 0HAM WHAM8 SOLAR, LLC, NedPower Mount Storm LLC, Black Rock Wind Force, LLC, Rattlesnake Flat, LLC, Golden Fields Solar III, LLC, Clearway Power Marketing LLC, Solar Borrego I LLC, Solar Avra Valley LLC, Solar Alpine LLC, Solar Roadrunner LLC, Solar Blythe LLC, Marsh Landing LLC, Carlsbad Energy Center LLC, Iron Springs Solar, LLC, Granite Mountain Solar West, LLC, Granite Mountain Solar East , LLC, Escalante Solar III, LLC, Escalante Solar II, LLC, Escalante Solar I, LLC, Enterprise Solar, LLC, Spring Canyon Energy III LLC, Spring Canyon Energy II LLC, Desert Sunlight 300, LLC, Desert Sunlight 250, LLC, Alta Wind XI, LLC, Alta Wind X, LLC, High Plains Ranch II, LLC, Crofton Bluffs Wind, LLC, Broken Bow Wind, LLC, Agua Caliente Solar, LLC, Pinnacle Wind, LLC, El Segundo Energy Center LLC, Sun City Project LLC, Sand Drag LLC, Avenal Park LLC, Alta Wind I, LLC, Alta Wind III, LLC, Alta Wind II, LLC, Alta Wind IV, LLC, Alta Wind V, LLC, GenConn Middletown LLC, GenConn Devon LLC, Elkhorn Ridge Wind, LLC, Mountain Wind Power, LLC, Mountain Wind Power II LLC, San Juan Mesa Wind Project, LLC, Walnut Creek Energy, LLC, Taloga Wind, L.L.C, Laredo Ridge Wind, LLC, Wildorado Wind, LLC, Sleeping Bear, LLC, Lookout WindPower LLC, Forward WindPower LLC, GenConn Energy LLC.

Description: Notice of Change in Status of GenConn Energy LLC, et al.

Filed Date: 10/26/22.

Accession Number: 20221026-5235.

Comment Date: 5 p.m. ET 11/16/22.

Docket Numbers: ER10-1451-007; ER10-1467-008; ER10-1468-008; ER10-1469-008; ER10-1473-007; ER10-1474-007; ER10-2687-007; ER10-2688-010; ER10-2689-010; ER10-2728-009; ER12-273-003; ER10-1478-009.

Applicants: Pennsylvania Electric Company, Allegheny Energy Supply Company, LLC, Green Valley Hydro, LLC, West Penn Power Company, Potomac Edison Company, Monongahela Power Company, Metropolitan Edison Company, Pennsylvania Power Company, Cleveland Electric Illuminating Company, Toledo Edison Company, Ohio Edison Company, Jersey Central Power & Light.

Description: Notice of Change in Status of Jersey Central Power & Light Company, et al.

Filed Date: 10/25/22.

Accession Number: 20221025-5208.

Comment Date: 5 p.m. ET 11/15/22.

Docket Numbers: ER10-1801-007; ER10-1805-008; ER10-2370-006.

Applicants: NSTAR Electric Company, Public Service Company of New Hampshire, The Connecticut Light and Power Company.

Description: Notice of Change in Status of The Connecticut Light and Power Company, et al.

Filed Date: 10/27/22.

Accession Number: 20221027-5056.

Comment Date: 5 p.m. ET 11/17/22.

Docket Numbers: ER22-728-002.

Applicants: Pegasus Wind, LLC.

Description: Compliance filing: Compliance Filing Under Docket ER22-728 to be effective 3/1/2022.

Filed Date: 10/26/22.

Accession Number: 20221026-5199.

Comment Date: 5 p.m. ET 11/16/22.

Docket Numbers: ER22-2838-001.

Applicants: Southwest Power Pool, Inc.

Description: Tariff Amendment: 4011SO Panhandle Solar & Ponderosa Wind II & OG&E SNUFCA to be effective 11/12/2022.

Filed Date: 10/27/22.

Accession Number: 20221027-5068.

Comment Date: 5 p.m. ET 11/17/22.

Docket Numbers: ER23-200-000.

Applicants: Daggett Solar Power 1 LLC.

Description: Baseline eTariff Filing: Baseline New Filing to be effective 12/26/2022.

Filed Date: 10/26/22.

Accession Number: 20221026-5206.

Comment Date: 5 p.m. ET 11/16/22.

Docket Numbers: ER23-201-000

Applicants: Southwest Power Pool, Inc.

Description: Petition for Waiver of Tariff Provisions of Southwest Power Pool, Inc.

Filed Date: 10/26/22.

Accession Number: 20221026-5208.

Comment Date: 5 p.m. ET 11/16/22.

Docket Numbers: ER23-202-000.

Applicants: PJM Interconnection, L.L.C.

Description: § 205(d) Rate Filing: Amended ISA, Service Agreement No. 5849; Queue No. AE2-131 to be effective 10/28/2020.

Filed Date: 10/26/22.

Accession Number: 20221026-5211.

Comment Date: 5 p.m. ET 11/16/22.

Docket Numbers: ER23-203-000.

Applicants: Daggett Solar Power 2 LLC.

Description: Baseline eTariff Filing: Baseline New Filing to be effective 12/26/2022.

Filed Date: 10/26/22.

Accession Number: 20221026-5212.

Comment Date: 5 p.m. ET 11/16/22.

Docket Numbers: ER23-204-000.

Applicants: ADG Group Inc.

Description: Notice of Cancellation of Market Based Rate Tariff of ADG Group Inc.

Filed Date: 10/26/22.

Accession Number: 20221026-5234.

Comment Date: 5 p.m. ET 11/16/22.

Docket Numbers: ER23-205-000.

Applicants: Louisville Gas and Electric Company.

Description: § 205(d) Rate Filing: Order No. 676-J Compliance Filing Integrating NAESB WEQ Version 003.3 to be effective 1/27/2023.

Filed Date: 10/27/22.

Accession Number: 20221027-5026.

Comment Date: 5 p.m. ET 11/17/22.

Docket Numbers: ER23-206-000.

Applicants: DesertLink, LLC.

Description: Compliance filing: DesertLink LLC Annual TRBAA Filing to be effective 1/1/2023.

Filed Date: 10/27/22.

Accession Number: 20221027-5048.

Comment Date: 5 p.m. ET 11/17/22.

Docket Numbers: ER23-207-000.

Applicants: Golden Spread Electric Cooperative, Inc.

Description: Compliance filing: 676-J Order Second Compliance to be effective 1/27/2023.

Filed Date: 10/27/22.

Accession Number: 20221027-5052.

Comment Date: 5 p.m. ET 11/17/22.

Docket Numbers: ER23-208-000.

Applicants: Southwest Power Pool, Inc.

Description: § 205(d) Rate Filing: 1276R29 Evergy Metro NITSA NOA to be effective 1/1/2023.

Filed Date: 10/27/22.

Accession Number: 20221027-5057.

Comment Date: 5 p.m. ET 11/17/22.

Docket Numbers: ER23-209-000.

Applicants: Dominion Energy South Carolina, Inc.

Description: Compliance filing: Order 676-J Attach Q—2nd Compliance Filing to be effective 12/31/9998.

Filed Date: 10/27/22.

Accession Number: 20221027-5069.

Comment Date: 5 p.m. ET 11/17/22.

Docket Numbers: ER23-210-000.

Applicants: Deseret Generation & Transmission Co-operative, Inc.

Description: Compliance filing: 676-J Order Second Compliance to be effective 1/27/2023.

Filed Date: 10/27/22.

Accession Number: 20221027-5071.

Comment Date: 5 p.m. ET 11/17/22.

Docket Numbers: ER23-211-000.

Applicants: Southwest Power Pool, Inc.

Description: § 205(d) Rate Filing: 1266R13 Kansas Municipal Energy Agency NITSA and NOA to be effective 1/1/2023.

Filed Date: 10/27/22.

Accession Number: 20221027-5075.

Comment Date: 5 p.m. ET 11/17/22.

Docket Numbers: ER23-212-000.

Applicants: PJM Interconnection, L.L.C.

Description: § 205(d) Rate Filing: Amendment to ISA, Service Agreement No. 5823; Queue No. AC2-103 to be effective 10/12/2020.

Filed Date: 10/27/22.

Accession Number: 20221027-5082.

Comment Date: 5 p.m. ET 11/17/22.

Docket Numbers: ER23-213-000.

Applicants: Duke Energy Florida, LLC, Duke Energy Progress, LLC, Duke Energy Carolinas, LLC.

Description: Compliance filing: Duke Energy Florida, LLC submits tariff filing per 35: Order 676-J Compliance Filing to be effective 12/31/9998.

Filed Date: 10/27/22.

Accession Number: 20221027-5083.

Comment Date: 5 p.m. ET 11/17/22.

Docket Numbers: ER23-214-000.

Applicants: Arizona Public Service Company.

Description: § 205(d) Rate Filing: Rate Schedule No. 217, Exhibit B.ADA to be effective 12/30/2022.

Filed Date: 10/27/22.

Accession Number: 20221027-5087.

Comment Date: 5 p.m. ET 11/17/22.

Docket Numbers: ER23-215-000.

Applicants: Duke Energy Florida, LLC.

Description: Tariff Amendment: DEF-FPL Rate Schedule No. 221 Cancellation to be effective 12/27/2022.

Filed Date: 10/27/22.

Accession Number: 20221027-5110.

Comment Date: 5 p.m. ET 11/17/22.

Docket Numbers: ER23-216-000.

Applicants: West Line Solar, LLC.

Description: § 205(d) Rate Filing: West Line Solar, LLC Shared Facilities Agreement to be effective 10/28/2022.

Filed Date: 10/27/22.

Accession Number: 20221027-5111.

Comment Date: 5 p.m. ET 11/17/22.

Docket Numbers: ER23-217-000.

Applicants: Midcontinent Independent System Operator, Inc.

Description: § 205(d) Rate Filing: 2022-10-27_Attachment X Appendix 10 Model Review Changes to be effective 12/27/2022.

Filed Date: 10/27/22.

Accession Number: 20221027-5113.

Comment Date: 5 p.m. ET 11/17/22.

Docket Numbers: ER23-218-000.

Applicants: New York Independent System Operator, Inc., LS Power Grid New York Corporation I

Description: § 205(d) Rate Filing: New York Independent System Operator, Inc. submits tariff filing per 35.13(a)(2)(iii): Section 205 filing of LSPGNY proposed depreciation rate updates in Formula Rate to be effective 12/27/2022.

Filed Date: 10/27/22.

Accession Number: 20221027-5123.

Comment Date: 5 p.m. ET 11/17/22.

Docket Numbers: ER23-219-000.

Applicants: PacifiCorp.

Description: Compliance filing: Second Compliance Filing for Order No. 676-J to be effective N/A.

Filed Date: 10/27/22.

Accession Number: 20221027-5128.

Comment Date: 5 p.m. ET 11/17/22.

Docket Numbers: ER23-220-000.

Applicants: Puget Sound Energy, Inc.

Description: Compliance Filing for Order No. 676-J of Puget Sound Energy, Inc.

Filed Date: 10/25/22.

Accession Number: 20221025-5210.

Comment Date: 5 p.m. ET 11/15/22.

Docket Numbers: ER23-221-000.

Applicants: Duke Energy Carolinas, LLC.

Description: § 205(d) Rate Filing: NCMPA1 RS No. 318 Amendment (2023 Confirmation) to be effective 1/1/2023.

Filed Date: 10/27/22.

Accession Number: 20221027-5139.

Comment Date: 5 p.m. ET 11/17/22.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: October 27, 2022.
Debbie-Anne A. Reese,
Deputy Secretary.

[FR Doc. 2022-23840 Filed 11-1-22; 8:45 am]

BILLING CODE 6717-01-P